DEPARTMENT OF ENERGY

Federal Energy Regulatory Commission

[Docket Nos. AD21-6-000;AD20-6-000]

RTO/ISO Credit Principles and Practices Request for Technical Conference and Petition for Rulemaking; Notice of Technical Conference

Take notice that Federal Energy Regulatory Commission (Commission) staff will convene a technical conference to discuss principles and best practices for credit risk management in organized wholesale electric markets. The conference may address the following aspects of credit policy: The credit and risk management infrastructure of the Regional Transmission Organizations (RTOs) and Independent System Operators (ISOs); best practices and principles underlying capitalization requirements, financial security requirements, and unsecured credit allowances; the applicability of Know Your Customer protocols and other counterparty risk management tools; considerations for implementing Financial Transmission Right-specific credit policies, such as a mark-to-auction mechanism; and the relationship between credit policy and wholesale electric market design. Commissioners may participate in the technical conference.

The technical conference will be held on Thursday and Friday, February 25-26, 2021 from approximately 9:00 a.m. to 5:00 p.m. Eastern Time. The technical conference will be held either in-person at the Commission's headquarters at 888 First Street NE, Washington, DC 20426 in the Commission Meeting Room (with a WebEx option available) or solely via teleconference (over WebEx) and broadcast on the Commission's website. The conference will be open for the public to attend, and there is no fee for attendance. Supplemental notice(s) will be issued prior to the technical conference with further details regarding the agenda and organization of the conference. Information on this technical conference will also be posted on the Calendar of Events on the Commission's website, www.ferc.gov, prior to the event.

Individuals interested in participating as panelists should self-nominate through the Webex registration form by 5:00 p.m. on Friday, December 11, 2020 at: https://ferc.webex.com/ferc/onstage/g.php?MTID=e2b36f2a0411532188b8cd973144668ff.

For more information about this technical conference, please contact Michael Hill, 202-502-8703, michael.hill@ferc.gov for technical questions or Sarah McKinley, 202-502-8368, sarah.mckinley@ferc.gov for logistical issues.

Dated: November 4, 2020.
Nathaniel J. Davis, Sr.,
Deputy Secretary.

[FR Doc. 2020-24928 Filed 11-9-20; 8:45 am]

BILLING CODE 6717-01-P